DEPARTMENT OF AGRICULTURE

Forest Service

Information Collection; Request for Comments; Land Exchanges

AGENCY: Forest Service, USDA.

ACTION: Notice.

SUMMARY: In accordance with the Paperwork Reduction Act of 1995, the Forest Service is seeking comments from all interested individuals and organizations on the extension of the currently approved information collection 0596-0105—Land Exchanges.

DATES: Comments must be received in writing on or before August 15, 2006 to be assured of consideration. Comments received after that date will be considered to the extent practicable.

ADDRESSES: Comments concerning this notice should be addressed to Cynthia R. Swanson, Assistant Director, Lands, 1400 Independence Avenue, SW., Mail Stop 1124, Washington, DC 20250-1124.

Comments also may be submitted via facsimile to (202) 205-1604 or by e-mail to: lands/wo@fs.fed.us.

All comments, including names and addresses when provided, are placed in the record and are available for public inspection and copying. The public may inspect comments received at the Office of the Assistant Director—Lands Staff, Yates Building, 201 14th Street, SW., Washington, DC. Visitors are encouraged to call ahead at (202) 205-1248 to facilitate entry into the building.

FOR FURTHER INFORMATION CONTACT: Cynthia R. Swanson, Assistant Director—Lands Staff, at (202) 205-1248 or Kathleen L. Dolge, Realty Specialist, at (202) 205-1248. Individuals who use telecommunications devices for the deaf may call the Federal Relay Service at 1-800-877-8339, 24 hours a day, every day of the year, including holidays.

SUPPLEMENTARY INFORMATION: Title: Land Exchanges.

OMB Number: 0596-0105.

Expiration Date of Approval: December 31, 2006.

Type of Request: Extension of a currently approved information collection.

Abstract: Land exchanges are discretionary, voluntary real estate transactions between the Secretary of Agriculture (acting by and through the Forest Service) and a non-Federal exchange party (or parties). Land exchanges can be initiated by a non-Federal party (or parties), an agent of a landowner, a broker, a third party, or a non-Federal public agency.

Each land exchange requires preparation of an Agreement to Initiate, as required by Title 36 Code of Federal Regulations (CFR), part 254, subpart C, section 254.4—Agreement to Initiate an Exchange. This document specifies the preliminary and non-binding intentions of the non-Federal land exchange party and the Forest Service in pursuing a land exchange. The Agreement to Initiate can contain such information as the description of properties being considered in the land exchange, an implementation schedule of action items, identification of the party responsible for each action item, as well as target dates for completion of each action item.

As the exchange proposal develops, the Forest Service and the non-Federal land exchange party may enter into a binding Exchange Agreement, pursuant to Title 36 CFR part 254, subpart A, section 254.14—Exchange Agreement. The Exchange Agreement documents the conditions that must be met to complete the exchange. The Exchange Agreement can contain information such as identification of parties, description of lands and interests to be exchanged, identification of all reserved and outstanding interests, and all other terms and conditions necessary to complete the exchange.

The Forest Service collects the information from the non-Federal party (or parties) necessary to complete the Agreement to Initiate and the Exchange Agreement. The information is collected by Forest Service personnel from parties involved in the exchange via telephone or in person. Data from this information collection is unique to each land exchange and is not available from other sources. No standardized forms are associated with this information collection.

Item | Agreement to initiate | Exchange agreement
Estimate of Annual Burden Hours | 1 | 1
Type of Respondents | (*) | (*)
Estimated Annual Number of Respondents | 60 | 60
Estimated Number of Responses per Respondent | 1 | 1
Estimated Total Annual Burden Hours on Respondents | 60 | 60
*Non-Federal Land Exchange Party.

Comment is invited on: (1) Whether the proposed collection of information is necessary for the stated purposes or the proper performance of the functions of the agency, including whether the information shall have practical or scientific utility; (2) the accuracy of the agency's estimate of the burden of the proposed collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including name and address when provided, will become a matter of public record. Comments will be summarized and included in the request for Office of Management and Budget approval.

June 7, 2006.
Frederick R. Norbury,
Associate Deputy Chief,National Forest System.

[FR Doc. E6-9422 Filed 6-15-06; 8:45 am]

BILLING CODE 3410-11-P